DEPARTMENT OF DEFENSE

Defense Acquisition Regulation System

[Docket No. DARS-2013-0005]

Submission for OMB Review; Comment Request; Correction

ACTION: Notice; correction.

SUMMARY: This document corrects the heading to a notice published in the Federal Register on June 18, 2013, 78 FR 36542, regarding the Submission for OMB Review; Comment Request for OMB Control Number 0704-0441. This correction revises the docket number associated with the OMB Control Number.

In the Federal Register of June 18, 2013 at 78 FR 36542, in the first column, correct the Docket No. to read: Docket No. DARS-2013-0005.

Kortnee Stewart,
Editor, Defense Acquisition Regulations System.

[FR Doc. 2013-15682 Filed 6-28-13; 8:45 am]

BILLING CODE 5001-06-P